SECURITIES AND EXCHANGE COMMISSION

[Release No. IC-24878]

Notice of Applications for Deregistration Under Section 8(f) of the Investment Company Act of 1940

February 23, 2001.

The following is a notice of applications for deregistration under section 8(f) of the Investment Company Act of 1940 for the month of February 2001. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on March 20, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

Federated Master Trust [File No. 811-2784], Money Market Obligations Trust II [File No. 811-7364], Federated Tax-Free Trust [File No. 811-2891], Liberty U.S. Government Money Market Trust [File No. 811-2956], Federated Short-Term U.S. Government Trust [File No. 811-5035], Federated Municipal Trust [File No. 811-5911], Trust for Short-Term U.S. Government Securities [File No. 811-2602], Trust for U.S. Treasury Obligations [File No. 811-29511], Trust for Government Cash Reserves [File No. 811-5772], Liquid Cash Trust [File No. 811-3057], Money Market Management, Inc. [File No. 811-2430], Money Market Trust [File No. 811-2550], Automated Government Money Trust [File No. 811-3475], and Federated Government Trust [File No. 811-5981]

Summary: Each applicant seeks an order declaring that it has ceased to be an investment company. Between April 26, 1999, and February 1, 2000, each applicant transferred its assets to Money Market Obligations Trust based on net asset value. Applicants bore none of the expenses incurred in connection with the reorganizations. Any expenses were paid by Federated Investment Management Company, each applicant's investment adviser, or its affiliates.

Filing Dates: The applications were filed on December 8, 2000, and amended on February 7, 2001.

Applicants' Address: 5800 Corporate Drive, Pittsburgh, Pennsylvania 15237-7000.

Van Kampen Global Managed Assets Fund [File No. 811-8286]

Summary: Applicant seeks an order declaring that it has ceased to be an investment company. On May 24, 2000, applicant made a final liquidating distribution to its shareholders based on net asset value. Expenses of $100 incurred in connection with the liquidation were paid by Van Kampen Asset Management Inc., applicant's investment adviser.

Filing Date: The application was filed on February 1, 2001.

Applicant's Address: 1 Parkview Plaza, P.O. Box 5555, Oakbrook Terrace, IL 680181-5555.

PMD Investment Company [File No. 811-3135]

Summary: Applicant seeks an order declaring that it has ceased to be an investment company. On November 3, 2000, applicant made a liquidating distribution to its shareholders based on net asset value. First National Bank of Omaha, applicant's depository agent, is holding any unclaimed funds, which will escheat to the State of Nebraska after the applicable holding period. Expenses of $46,188 incurred in connection with the liquidation were paid by applicant.

Filing Date: The application was filed on December 21, 2000.

Applicant's Address: 10050 Regency Circle, Suite 315, Omaha, Nebraska 68114.

The Sheffield Funds, Inc. [File No. 811-5886]

Summary: Applicant seeks an order declaring that it has ceased to be an investment company. On October 26, 2000, applicant made a liquidating distribution to its shareholders, based on net asset value. Expenses of $11,000 incurred in connection with the liquidation were paid by applicant.

Filing Date: The application was filed on December 28, 2000.

Applicant's Address: 900 Circle 75 Parkway, Suite 750, Atlanta, Georgia 30339.

The Travelers Timed Bond Account for Variable Annuities [File No. 811-5092]

Summary: Applicant seeks an order declaring that it has ceased to be an investment company. The applicant was a fund only offered as part of a market timing marketing program. The program was discontinued effective October 1, 1997. Customers were given the option of terminating before October 1, 1997 and moving into a fund of their choice. After October 1, 1997, customers were transferred to the American Odyssey Short-Term Bond Fund. As a result, all of the assets of the applicant were distributed in 1997. The applicant states that the Travelers Insurance Company absorbed any expenses that were incurred to achieve the liquidation.

Filing Dates: The application was filed on June 19, 2000, and amended on February 21, 2001.

Applicant's Address: One Tower Square, Hartford, CT 06183.

PFL Endeavor Target Account [File No. 811-8377]

Summary: Applicant seeks an order declaring that it has ceased to be an investment company. On September 25, 2000, the shareholders of applicant voted to approve the merger of applicant with another investment company. The name of the investment company surviving the merger is Capital Guardian U.S. Equity Subaccount of the Endeavor Variable Annuity Separate Account, and its Investment Company Act file number is 811-06032. Expenses of $40,000 were incurred in connection with the merger and were paid by PFL Life Insurance Company, which established and maintained applicant as a managed separate account and which is the depositor of the surviving investment company.

Filing Date: The application was filed on December 19, 2000.

Applicant's Address: 4333 Edgewood Road NE, Cedar Rapids, IA 52499-4520.

Penfield Partners, L.P. [File No. 811-8604]

Summary: Applicant seeks an order declaring that it has ceased to be an investment company. Applicant has never made a public offering of its securities and does not propose to make a public offering. Applicant will continue to operate as a private investment vehicle in reliance on section 3(c)(1) of the Act.

Filing Date: The application was filed on February 14, 2001. Applicant has agreed to file an amendment during the notice period.

Applicant's Address: 153 East 53rd Street, New York, NY 10022.

For the Commission, by the Division of Investment Management, pursuant to delegated authority.
Margaret H. McFarland,
Deputy Secretary.

[FR Doc. 01-5044 Filed 3-1-01; 8:45 am]

BILLING CODE 8010-01-M